DEPARTMENT OF ENERGY

Federal Energy Regulatory Commission

[Docket No. DI26-1-000; Project No. 13871-000]

Wagon Wheel Associates, Inc., Wagon Wheel Associates; Notice of Petition for Declaratory Order and Soliciting Comments, Protests, and Motions To Intervene

Take notice that the following application has been filed with the Commission and is available for public inspection:

a. Application Type: Petition for Declaratory Order.

b. Docket Nos: DI26-1-000 and P-13871-000.

c. Date Filed: October 29, 2025.

d. Applicant: Wagon Wheel Associates, Inc.

e. Name of Project: Humphreys Hydroelectric Project.

f. Location: The Humphreys Hydroelectric Project is located on Goose Creek, near the town of South Fork, in Mineral County, Colorado.

g. Filed Pursuant to: Section 23(b)(1) of the Federal Power Act, 16 U.S.C. 817(b)(1).

h. Applicant Contact: Ruth Brown, Wagon Wheel Associates, Inc., 7.5 Goose Creek Road, South Fork, CO 81154; email: ruthiebrown@comcast.net; Agent Contact: Karl F. Kumli, III, 2060 Broadway, Suite 400, Boulder, Colorado 80302; telephone: (303) 447-1375; email: karlk@dietzedavis.com.

i. FERC Contact: Maryam Akhavan, (202) 502-6110, or Maryam.Akhavan@ferc.gov.

j. Deadline for filing comments, protests, and motions to intervene is: February 20, 2026, by 5:00 p.m. Eastern Time.

The Commission strongly encourages electronic filing. Please file comments, protests, and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket numbers DI26-1-000 and P-13871-000. Comments emailed to Commission staff are not considered part of the Commission record.

k. Description of Project: The existing Humphreys Hydroelectric Project (P-13871) consists of: (1) 186-foot-long, 90-foot-high concrete arch dam with twin 36-inch outlets; (2) 148-foot long, 70-foot-wide concrete ogee overflow spillway; (3) 44-acre reservoir with normal storage of 842 acre feet and a normal surface elevation of 8,971.15 feet mean sea level; (4) siphon intake and trash rack constructed on the left abutment of the dam at an elevation 8,971.15 feet mean sea level; (5) 36-inch-diameter, 600-foot-long above ground steel penstock leading from the siphon intake to the powerhouse; (6)16-foot-wide by 24-foot-long powerhouse housing the turbine, generator, switchgear and controls; (7) 310-kilowatt nameplate capacity turbine generator; (8) 500-foot-long, 25-kilovolt buried cable connecting the powerhouse to the existing underground power line located adjacent to the main ranch access road; and (9) appurtenant facilities.

This petition seeks a declaration finding that the Humphreys Hydroelectric Project is non-jurisdictional because the project is not located on a navigable stream or a tributary to a navigable waterway over which Congress has jurisdiction under the Commerce Clause; does not involve post-1935 construction; and does not directly affect interstate or foreign commerce.

When a Petition for Declaratory Order is filed with the Commission, requesting a jurisdictional determination for an existing project, a review is begun to determine if the interests of interstate or foreign commerce are affected by the project. The Commission also determines whether or not the project: (1) is located on a navigable waterway; (2) is occupying or affecting public lands or reservations of the United States; (3) is utilizing surplus water or water power from a government dam; or (4) if applicable, has undertaken any construction subsequent to 1935 that may have increased the project's head or generating capacity, or has otherwise significantly modified the project's pre-1935 design or operation.

l. Locations of the Application: This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTESTS”, and “MOTIONS TO INTERVENE”, as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

p. Agency Comments: Federal, state, and local agencies are invited to file comments on the described application. A copy of the application may be obtained by agencies directly from the Applicant. If an agency does not file comments within the time specified for filing comments, it will be presumed to have no comments. One copy of an agency's comments must also be sent to the Applicant's representatives.

q. For public inquiries and assistance with making filings such as interventions, comments, or requests for rehearing, contact the Office of Public Participation at (202)502-6595 or OPP@ferc.gov.

(Authority: 18 CFR 2.1)

Dated: January 21, 2026.
Debbie-Anne A. Reese,
Secretary.

[FR Doc. 2026-01475 Filed 1-26-26; 8:45 am]

BILLING CODE 6717-01-P